DEPARTMENT OF COMMERCE

International Trade Administration

[A-570-890]

Wooden Bedroom Furniture From the People's Republic of China: Final Results of Antidumping Duty Administrative Review and Final Determination of No Shipments in Part; 2017

AGENCY: Enforcement and Compliance, International Trade Administration, Department of Commerce.

SUMMARY: The Department of Commerce (Commerce) determines that eight of the 13 companies under review have not demonstrated eligibility for a separate rate and the other five companies under review had no shipments of subject merchandise during the period of review (POR) January 1, 2017, through December 31, 2017.

DATES: Applicable May 29, 2019.

FOR FURTHER INFORMATION CONTACT: Howard Smith, AD/CVD Operations, Office IV, Enforcement & Compliance, International Trade Administration, U.S. Department of Commerce, 1401 Constitution Avenue NW, Washington, DC 20230; telephone: (202) 482-5193.

SUPPLEMENTARY INFORMATION:

Background

On December 12, 2018, Commerce published its Preliminary Results of the review of the antidumping duty order on wooden bedroom furniture (WBF) from the People's Republic of China (China) covering the period January 1, 2017, through December 31, 2017.¹ On January 10, 2019, the American Furniture Manufacturers Committee for Legal Trade and Vaughan-Bassett Furniture Company, Inc. (collectively, the petitioners) filed a case brief.² No rebuttal briefs were filed.

¹ See Wooden Bedroom Furniture from the People's Republic of China: Preliminary Results of Antidumping Duty Administrative Review; 2017, 83 FR 63829 (December 12, 2018) (Preliminary Results).

² See Petitioners' Letter, “Wooden Bedroom Furniture from the People's Republic of China: Petitioners' Case Brief,” dated January 10, 2019 (Petitioners' Case Brief).

Commerce exercised its discretion to toll all deadlines affected by the partial federal government closure from December 22, 2018, through the resumption of operations on January 29, 2019.³ The revised deadline for the final results of review is now May 21, 2019.

³ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The product covered by the Order is wooden bedroom furniture, subject to certain exceptions.⁴ Imports of subject merchandise are classified under the Harmonized Tariff Schedule of the United States (HTSUS) subheadings: 9403.50.9042, 9403.50.9045, 9403.50.9080, 9403.90.7005, 9403.90.7080, 9403.50.9041, 9403.60.8081, 9403.20.0018, 9403.90.8041, 7009.92.1000 or 7009.92.5000. Although the HTSUS subheadings are provided for convenience and customs purposes, the written product description in the Order remains dispositive.⁵

⁴ See Notice of Amended Final Determination of Sales at Less Than Fair Value and Antidumping Duty Order: Wooden Bedroom Furniture from the People's Republic of China, 70 FR 329 (January 4, 2005) (Order).

⁵ For a complete description of the scope of the Order, see Memorandum, “Issue and Decision Memorandum for the Final Results of the 2017 Administrative Review of Wooden Bedroom Furniture from the People's Republic of China,” dated concurrently with this notice (Issue and Decision Memorandum).

Analysis

In the Preliminary Results, Commerce: (1) Determined that eight companies, including the sole mandatory respondent, Decca Furniture Ltd. (Decca), did not establish their eligibility for a separate rate and are part of the China-wide entity; ⁶ and (2) determined that five companies had no shipments of subject merchandise.⁷ For these final results of review, we have continued to treat the eight companies, including Decca, as part of the China-wide entity and have continued to find that five companies had no shipments during the POR. Because no party requested a review of the China-wide entity, we are not conducting a review of the China-wide entity.⁸ Thus, there is no change to the rate for the China-wide entity from the Preliminary Results. The existing rate for the China-wide entity is 216.01 percent.

⁶ The other seven companies are: (1) Dongguan Kingstone Furniture Co., Ltd.; Kingstone Furniture Co., Ltd.; (2) Kunshan Summit Furniture Co., Ltd.; (3) Qingdao Liangmu Co., Ltd.; (4) Restonic (Dongguan) Furniture Ltd.; Restonic Far East (Samoa) Ltd.; (5) Rizhao Sanmu Woodworking Co., Ltd.; (6) Techniwood Industries Ltd.; Ningbo Furniture Industries Ltd.; Ningbo Hengrun Furniture Co., Ltd.; and (7) Zhangjiagang Zheng Yan Decoration Co., Ltd. See Preliminary Results at 63829.

⁷ The five companies/company groupings are: (1) Dongguan Sunrise Furniture Co., Ltd., Taicang Sunrise Wood Industry Co., Ltd., Taicang Fairmount Designs Furniture Co., Ltd., Meizhou Sunrise Furniture Co., Ltd.; (2) Dongguan Sunrise Furniture Co., Taicang Sunrise Wood Industry Co., Ltd., Shanghai Sunrise Furniture Co. Ltd., Fairmont Designs; (3) Eurosa (Kunshan) Co., Ltd., Eurosa Furniture Co., (PTE) Ltd.; (4) Shenyang Shining Dongxing Furniture Co., Ltd.; and (5) Yeh Brothers World Trade Inc. See Preliminary Results at 63829.

⁸ See Antidumping Proceedings: Announcement of Change in Department Practice for Respondent Selection in Antidumping Duty Proceedings and Conditional Review of the Nonmarket Economy Entity in NME Antidumping Duty Proceedings, 78 FR 65963, 65969-70 (November 4, 2013).

For additional details, see the Issue and Decision Memorandum, which is a public document and is on file electronically via Enforcement and Compliance's Antidumping and Countervailing Duty Centralized Electronic Service System (ACCESS). ACCESS is available to registered users at http://access.trade.gov and in the Central Records Unit, Room B8024 of the main Department of Commerce building. In addition, a complete version of the Issue and Decision Memorandum can be accessed directly on the internet at http://enforcement.trade.gov/frn/index.html. The signed and the electronic versions of the Issue and Decision Memorandum are identical in content. The issue raised by the petitioners in their case brief is identified in the Appendix to this notice.

Assessment Rates

Pursuant to section 751(a)(2)(C) of the Tariff Act of 1930, as amended (the Act), and 19 CFR 351.212(b), Commerce has determined, and U.S. Customs and Border Protection (CBP) shall assess, antidumping duties on all appropriate entries of subject merchandise in accordance with the final results of this review. Commerce intends to issue assessment instructions to CBP 15 days after the publication date of the final results of this review. Commerce will instruct CBP to liquidate any entries of subject merchandise exported during this POR by Decca and the other seven companies noted above which did not qualify for separate rate status, at the China-wide rate.

Additionally, pursuant to Commerce's practice in non-market economy cases, if there are any suspended entries of subject merchandise during the POR under the case numbers of the five companies that claimed no shipments of subject merchandise during the POR, they will be liquidated at the China-wide rate.⁹

⁹ For a full discussion of this practice, see Non-Market Economy Antidumping Proceedings: Assessment of Antidumping Duties, 76 FR 65694 (October 24, 2011).

Cash Deposit Requirements

The following cash deposit requirements will be effective upon publication of the final results of this administrative review for shipments of subject merchandise from China entered, or withdrawn from warehouse, for consumption on or after the publication date in the Federal Register of the final results of this review, as provided by section 751(a)(2)(C) of the Act: (1) For previously investigated or reviewed China and non-China exporters which are not under review in this segment of the proceeding but which received a separate rate in a prior segment of this proceeding, the cash deposit rate will continue to be the existing exporter-specific rate; (2) for all China exporters of subject merchandise that have not been found to be entitled to a separate rate, the cash deposit rate will be the rate for the China-wide entity, which is 216.01 percent; and (3) for all non-China exporters of subject merchandise which have not received their own rate, the cash deposit rate will be the rate applicable to the China exporter that supplied that non-China exporter.

These deposit requirements, when imposed, shall remain in effect until further notice.

Notification to Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice of the final results of this antidumping duty administrative review is issued and published in accordance with sections 751(a)(1) and 777(i) of the Act and 19 CFR 351.213 and 19 CFR 351.221(b)(5).

Dated: May 21, 2019.
Christian Marsh,
Deputy Assistant Secretary for Enforcement and Compliance.

Appendix

Issues and Decision Memorandum

I. Summary

II. Background

III. Scope of the Order

IV. Discussion of the Issues

Comment: Commerce Should Assign the Mandatory Respondent Decca a Rate Based on Total Adverse Facts Available

V. Recommendation

[FR Doc. 2019-11081 Filed 5-28-19; 8:45 am]

BILLING CODE 3510-DS-P